DEPARTMENT OF ENERGY

Federal Energy Regulatory Commission

Notice of Application Ready for Environmental Analysis and Soliciting Comments, Recommendations, Terms and Conditions, and Prescriptions

July 14, 2000.

Take notice that the following hydroelectric application has been filed with the Commission and is available for public inspection:

a. Type of Application: New Major License.

b. Project No.: 2482-023.

c. Date filed: December 19, 1991.

d. Applicant: Erie Boulevard Hydropower, L.P.

e. Name of Project: Hudson River Hydroelectric Project.

f. Location: On the Hudson River, at river miles 209 and 212, in the towns of Moreau, Corinth, (Saratoga County), Lake Luzerne, and Queensbury (Warren County), New York. The project would not utilize federal lands.

g. Filed Pursuant to: Federal Power Act, 16 USC §§ 791(a)-825(r).

h. Applicant Contact: Mr. Jerry L. Sabattis, Hydro Licensing Coordinator, 225 Greenfield Parkway, Suite 201, Liverpool, New York 13088, (315) 413-2787.

i. FERC Contact: Lee Emery, E-mail address, Lee.Emery@ferc.fed.us, or telephone (202) 219-2779.

j. Deadline for comments, recommendations, terms and conditions, and prescriptions: October 6, 2000.

All documents (original and eight copies) should be filed with: David P. Boergers, Secretary, Federal Energy Regulatory Commission, 888 First Street, NE., Washington, DC 20426.

The Commission's Rules of Practice and Procedure require all intervener filing documents with the Commission to serve a copy of that document on each person whose name appears on the official service list for the project. Further, if an intervener files comments or documents with the Commission relating to the merits of an issue that may affect the responsibilities of a particular resource agency, they must also serve a copy of the document on that resource agency.

k. Status of environmental analysis: This application has been accepted for filing and is ready for environmental analysis at this time.

l. Description of the Project: The Hudson River Project consists of two hydropower developments on the Hudson River: the Spier Falls development at river mile (RM) 212 and the Sherman Island development at RM 209. The Spier Falls development consists of: (1) a 1,721-foot-long dam consisting of (a) three non-overflow concrete gravity dams (52 feet, 553 feet, and 306 feet in length) with a maximum height of 145 feet; and (b) an 810-foot-long spillway up to 70 feet in height; (2) a reservoir with a surface area of 638 acres at a normal maximum water surface elevation of 436.8 feet National Geodetic Vertical Datum (NGVD), with usable storage of 2,526 acre-feet (ac-ft), and a gross storage capacity of 28,926 ac-ft; (3) a forbay canal; (4) two intake structures; one with 2¼-inch clear spaced trashracks and another with 5-inch clear spaced trashracks located in front of the gates; and a trashrake; (5) two penstocks and eight penstock openings (four of which are sealed); and (6) a powerhouse containing two vertical Francis turbines (installed capacities: 7.3 megawatts (MW) and 43.2MW); and (7) appurtenant equipment and controls. There is no bypassed reach. The development has an installed capacity of 50.6 MW and an annual average energy production of 214,372 megawatt-hours.

The development is operated in a peaking mode in tandem with the Sherman Island development. Reservoir water levels fluctuate daily up to four feet with an occasional drawdown of eight feet for maintenance. Water from the powerhouse is discharged directly to the upper reach of the Sherman Island reservoir.

The Sherman Island development consists of: (1) A 949-foot-long buttressed and gravity dam with a spillway topped with 3.7-foot and 5.7-foot high wooden flashboards with a maximum height of 38 feet and a 584-foot-long non-overflow section with a maximum height of 67 feet; (2) a reservoir with a surface area of 305 acres with a gross storage capacity of 6,960 ac-ft, and a usable storage capacity of 1,060 ac-ft at a normal maximum water surface elevation of 353.3 feet NGVD; (3) a concrete wingwall; (4) a forebay; (5) an intake structure consisting of a power canal with 15 penstocks (three of which are sealed) and 3 ¼-inch clear spaced steel bar trashracks; (6) one powerhouse with four vertical Francis turbines with installed capacities of 7.2 megawatts (MW) each; and (7) a tailrace consisting of a concrete apron to prevent undermining of the powerhouse. The total installed capacity of the development is 28.8 MW and an annual average energy production of 144,452 megawatt-hours. There is a 4,000 foot-long bypassed reach between the dam and the powerhouse.

The Sherman Island development is operated in a peaking mode in tandem with the Spiers Falls development. Maximum normal vertical water surface fluctuation is 3.7 feet with an occasional fluctuation of 7.4 feet for maintenance. Water from the powerhouse is discharged to the upper reach of the Feeder Dam Project (FERC 2554) reservoir.

m. Locations of the application: A copy of the application is available for inspection and reproduction at the Commission's Public Reference Room, located at 888 First Street, NE., Room 2A, Washington, DC 20426, or by calling (202) 208-1371. The application may be viewed on the web at http://www.ferc.fed.us/online/rims.htm (call 202-208-222 for assistance). A copy is also available for inspection and reproduction at the address in item h. above.

Filing and Service of Responsive Documents—The application is ready for environmental analysis at this time, and the Commission is requesting comments, reply comments, recommendations, terms and conditions, and prescriptions.

The Commission directs, pursuant to Section 4.34(b) of the Regulations (see Order No. 533 issued May 8, 1991, 56 FR 23108, May 20,1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS,” “REPLY COMMENTS,” “RECOMMENDATIONS,” “TERMS AND CONDITIONS,” or “PRESCRIPTIONS;” (2) set forth in the heading the name of the applicant and the project number of the application to which the filing responds: (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and the number of copies required by the Commission's regulations to: The Secretary, Federal Energy Regulatory Commission, 888 First Street, NE., Washington, DC 20426. An additional copy must be sent to Director, Division of Environmental Engineering Review, Federal Energy Regulatory Commission, at the above address. Each filing must be accompanied by proof of service on all persons listed on the service list prepared by the Commission in this proceeding, in accordance with 18 CFR 4.34(b), and 385.2010.

David P. Boergers,
Secretary.

[FR Doc. 00-20075 Filed 8-4-00; 8:45 am]

BILLING CODE 6717-01-M